DEPARTMENT OF THE INTERIOR

Bureau of Land Management

[LLCON03400 L17110000.AL0000]

Notice of Intent To Collect Fees on Public Land in Mesa County, CO (Ruby-Horsethief Stretch of the Colorado River) Under the Federal Lands Recreation Enhancement Act

AGENCY: Bureau of Land Management, Interior.

ACTION: Notice.

SUMMARY: Pursuant to applicable provisions of the Federal Lands Recreation Enhancement Act (REA), the Bureau of Land Management's (BLM) Grand Junction Field Office is proposing to begin collecting fees for overnight camping on the Ruby-Horsethief stretch of the Colorado River, between Loma, Colorado, and the Colorado State Line, Mesa County, Colorado. The Ruby-Horsethief stretch of the Colorado River was designated as a Special Area by the BLM in the Ruby Canyon/Black Ridge Integrated Resource Management Plan (March 1998).

DATES: The BLM's Grand Junction Field Office and McInnis Canyons NCA will initiate fee collection in the Ruby-Horsethief Special Area starting May 1, 2013, unless the BLM publishes a Federal Register notice to the contrary.

ADDRESSES: Copies of the fee proposal are available at the Grand Junction Field Office, 2815 H Road, Grand Junction, CO 81506; phone: 970-244-3000; and online at: http://www.blm.gov/co/st/en/nca/mcnca/what_s_news_.html.

FOR FURTHER INFORMATION CONTACT: Katie A. Stevens, National Conservation Area Manager, at the address above, or via email at kasteven@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Ruby-Horsethief Special Area offers outstanding opportunities for overnight, flat-water boating in the Ruby and Horsethief River Canyons. The special area also provides access to high-quality, outdoor recreation opportunities (primarily wilderness hiking and camping) in the Black Ridge Canyons Wilderness and the McInnis Canyons National Conservation Area (MCNCA). Maintaining a naturally appearing recreation setting, a quality social setting, and managing the area for overnight camping while protecting natural resources requires substantial Federal investment. The BLM is committed to finding the proper balance between public use and the protection of resources. The BLM may collect fees in conjunction with a Special Recreation Permit (SRP) as required to manage visitor use, protect natural and cultural resources, achieve the goals and objectives of the MCNCA land use plan, and authorize specific types of recreational activities. The special area qualifies as a site wherein visitors can be charged a fee in conjunction with an SRP, authorized under Section 803(h) of the REA, 16 U.S.C. 6802(h). In accordance with the REA and implementing regulations at 43 CFR 2930, visitors would obtain an individual SRP to camp within the Ruby-Horsethief Special Area. This SRP would be required to be displayed at each campsite. Permits would expire at the beginning of the subsequent calendar day.

Suggested fees for campsite usage would be based on group size: $20 for a small group (1-5), $50 for a medium group (6-14) and $100 for a large group (15-25). The BLM's goal for the Ruby-Horsethief fee program is to provide a quality recreational experience and maintain the area in a naturally appearing condition consistent with the recreation setting established by the RMP; manage visitor use under existing rules and regulations by providing for increased law enforcement presence; develop additional services, such as expanding interpretive/educational programming; and protect resources. All fees collected would be used for expenses within the river corridor.

In November and December 2011, the BLM completed and made available two documents to provide information to the public: The Ruby-Horsethief Business Plan (posted in November 2011) and the Ruby-Horsethief Environmental Assessment (EA) Decision Record and Finding of No Significant Impact (signed December 21, 2011). The Business Plan outlines operational goals of the area and the purpose of the fee program. The EA, Decision Record and Finding of No Significant Impact conclude three full years of public involvement and outreach related to the fee and permit. Both the Business Plan and the EA provide management direction for public enjoyment of these public lands through the recreational experience of overnight camping while minimizing the potential for resource damage from authorized uses. The Business Plan also provides a market analysis of local recreation sites and sets the basis for the fee proposal. Both documents are available online at: http://www.blm.gov/co/st/en/nca/mcnca/what_s_news_.html.

The Business Plan addresses recreation opportunities, the issuance of SRPs, and the charging of fees according to group size for camping within the special area. This Business Plan, prepared pursuant to the REA and BLM recreation fee program policy, also addresses the establishment of a permit process and the collection of user fees. It establishes the rationale for charging recreation fees, explains the fee collection process, and outlines how the fees would be used at the Ruby-Horsethief Special Area. The BLM has notified and involved the public at each stage of the planning process, including the proposal to collect fees, through on-site notifications and several public meetings to present and gather ideas concerning fees within the special area. The Northwest Colorado Resource Advisory Committee (NW RAC) considered the proposal at its December 1, 2011, meeting and recommended approval. Future adjustments in the fee amount would be made in accordance with the Business Plan and through consultation with the NW RAC and the public prior to a fee increase. Fee amounts will be posted on-site and online at the MCNCA Web site at: http://www.blm.gov/co/st/en/nca/mcnca.html. Copies of the Business Plan will be available at the Grand Junction Field Office and online at the MCNCA Web site.

Authority: 16 U.S.C. 6803(b) and 43 CFR 2932.13.

Steven Hall,
Acting State Director.

[FR Doc. 2012-8615 Filed 4-10-12; 8:45 am]

BILLING CODE 4310-JB-P